ENVIRONMENTAL PROTECTION AGENCY

[EPA-HQ-OPP-2016-0446; FRL-9964-59-OEI]

Information Collection Request Submitted to OMB for Review and Approval; Comment Request; Standards for Pesticide Containers and Containment

AGENCY: Environmental Protection Agency (EPA).

ACTION: Notice.

SUMMARY: EPA has submitted the following information collection request (ICR) to the Office of Management and Budget (OMB) for review and approval in accordance with the Paperwork Reduction Act (PRA): “Standards for Pesticide Containers and Containment” and identified by EPA ICR No. 1632.05 and OMB Control No. 2070-0133. The ICR, which is available in the docket along with other related materials, provides a detailed explanation of the collection activities and the burden estimate that is only briefly summarized in this document. EPA did not receive any comments in response to the previously provided public review opportunity issued in the Federal Register on September 26, 2016 (81 FR 66014). With this submission, EPA is providing an additional 30 days for public review.

DATES: Comments must be received on or before September 8, 2017.

ADDRESSES: Submit your comments, referencing Docket ID Number EPA-HQ- OPP-2016-0446, to both EPA and OMB as follows:

• To EPA online using http://www.regulations.gov (our preferred method) or by mail to: EPA Docket Center, Environmental Protection Agency, Mail Code 28221T, 1200 Pennsylvania Ave. NW., Washington, DC 20460.

• To OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Ramé Cromwell, Field and External Affairs Division, Office of Pesticide Programs, (7506P), Environmental Protection Agency, 1200 Pennsylvania Ave. NW., Washington, DC 20460; telephone number: 703 308-9068; fax number: 703 308-0029; email address: cromwell.rame@epa.gov.

SUPPLEMENTARY INFORMATION:

Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW., Washington, DC. The telephone number for the Docket Center is (202) 566-1744. For additional information about EPA's public docket, visit http://www.epa.gov/dockets.

ICR status: OMB approval for this ICR expired on July 1, 2017 due to administrative error. This action is a request to reinstate OMB approval for the information collection activities outlined in this document.

Under PRA, 44 U.S.C. 3501 et seq., an agency may not conduct or sponsor, and a person is not required to respond to, a collection of information, unless it displays a currently valid OMB control number. The OMB control numbers are displayed either by publication in the Federal Register or by other appropriate means, such as on the related collection instrument or form, if applicable. The display of OMB control numbers for certain EPA regulations is consolidated in 40 CFR part 9.

Abstract: This information collection request covers the information collection activities associated with the container design and residue removal requirements and containment structure requirements. With respect to the container design and residue removal requirements, the information collection activities are associated with the requirement that businesses subject to the container regulations (pesticide registrants) and repackaging regulations (pesticide registrants and refillers) maintain records of test data, cleaning procedures, certain data when a container is refilled, and other supporting information. These records are subject to both call-in by EPA and on-site inspection by EPA and its representatives. EPA has not established a regular schedule for the collection of these records, and there is no reporting.

With respect to the containment structure requirements, the information collection activities are associated with the requirement that businesses subject to the containment structure regulations maintain records of the: (1) Monthly inspection and maintenance of each containment structure and all stationary bulk containers; (2) duration over which non-stationary bulk containers holding pesticide and not protected by a secondary containment unit remain at the same location; and (3) construction date of the containment structure.

The businesses subject to the containment structure regulations include agrichemical retailers and refilling establishments, custom blenders and commercial applicators of agricultural pesticides. The records have to be maintained by the owners and operators of such businesses. There is no regular schedule for the collection of either of these records, nor does EPA anticipate a call-in of records at some future date. Instead, the records would be available to inspectors to ensure that businesses are in compliance with containment requirements. These inspections are generally conducted by the states, which enforce FIFRA regulations through cooperative agreements with EPA.

Respondents/Affected Entities: Pesticide registrants and businesses who formulate pesticide products or pesticide formulation intermediates, farm supply wholesalers, swimming pool applicators, and agricultural (aerial and ground) commercial applicators.

Respondent's Obligation To Respond: Mandatory under sections 3, 8, 19, and 25 of the Federal Insecticide and Rodenticide ACT (FIFRA) (7 U.S.C. 136f, 136q, and 136w).

Estimated Number of Respondents: 23,586.

Frequency of Response: On occasion.

Estimated Total Burden: 169,660 hours per year.

Estimated Total Cost: $7,296,308 per year.

Changes in the Estimates: There is no change in the estimated respondent burden compared with the ICR currently approved by OMB.

Authority: 44 U.S.C. 3501 et seq.

Courtney Kerwin,
Director, Regulatory Support Division.

[FR Doc. 2017-16781 Filed 8-8-17; 8:45 am]

BILLING CODE 6560-50-P